DEPARTMENT OF TRANSPORTATION

Surface Transportation Board

Notice and Request for Comments

AGENCY: Surface Transportation Board, Department of Transportation.

ACTION: Notice of intent to seek approval of existing collection: Waybill Sample.

SUMMARY: As required by the Paperwork Reduction Act of 1995, 44 U.S.C. 3501 et seq. (PRA), the Surface Transportation Board (Board) gives notice that it has submitted a request to the Office of Management and Budget (OMB) for approval of the currently existing collection of Waybill Sample data, which is described in detail below. The Board previously published a notice about these collections in the Federal Register on May 21, 2007, at 72 FR 28549. That notice allowed for a 60-day public review and comment period. No comments were received. Comments may now be submitted to OMB concerning (1) the accuracy of the Board's burden estimates; (2) ways to enhance the quality, utility, and clarity of the information collected; (3) ways to minimize the burden of the collection of information on the respondents, including the use of automated collection techniques or other forms of information technology, when appropriate; and (4) whether this collection of information is necessary for the proper performance of the functions of the Board, including whether the collection has practical utility.

Description of Collection

Title: Waybill Sample.

OMB Control Number: 2140-00.

STB Form Number: None.

Type of Review: Approval of existing collection.

Respondents: Any regulated railroad that terminated at least 4,500 carloads on its line in any of the three preceding years or that terminated at least 5% of the total revenue carloads that terminated in a particular state.

Number of Respondents: 64.

Estimated Time per Response: 75 minutes.

Frequency: 59 respondents report quarterly; 5 respondents report monthly.

Total Burden Hours (annually including all respondents): 370 hours.

Total “Non-hour Burden” Cost: No “non-hour cost” burdens associated with this collection have been identified.

Needs and Uses: The Surface Transportation Board is, by statute, responsible for the economic regulation of common carrier rail transportation in the United States. Under 49 CFR part 1244, a railroad is required to file carload-Waybill-Sample information (Waybill Sample) for all line-haul revenue waybills terminating on its lines if, in any of the three preceding years, it terminated 4500 or more carloads, or it terminated at least 5% of the total revenue carloads that terminate in a particular state. The information in the Waybill Sample is used by the Board, other Federal and state agencies, and industry stakeholders to monitor traffic flows and rate trends in the industry, and to develop testimony in Board proceedings. The Board has authority to collect this information under 49 U.S.C. 11144, 11145, and 11901(e).

DATES: Comments on this information collection should be submitted by December 3, 2007.

ADDRESSES: Comments should be faxed to the Office of Management and Budget, Office of Information and Regulatory Affairs, Attention: Surface Transportation Board Desk Officer, at (202) 395-6974. When submitting comments, please refer to “Paperwork Reduction Comments: Waybill Sample.”

For Further Information or To Obtain a Copy of Pertinent Regulations, Contact: Mac Frampton at (202) 245-0317 or at hugh.frampton@stb.dot.gov. [Assistance for the hearing impaired is available through the Federal Information Relay Service (FIRS) at 1-800-877-8339.] These regulations are codified at 49 CFR parts 1244.1-1244.9 and are also available on the Web through http://www.gpoaccess.gov/cfr/index.html.

SUPPLEMENTARY INFORMATION: Under the PRA, a Federal agency conducting or sponsoring a collection of information must display a currently valid OMB control number. A collection of information, which is defined in 44 U.S.C. 3502(3) and 5 CFR 1320.3(c), includes agency requirements that persons submit reports, keep records, or provide information to the agency, third parties, or the public. Under section 3507(b) of the PRA, Federal agencies are required to provide, concurrent with their submitting a collection to OMB for approval, a 30-day notice and comment period through publication in the Federal Register concerning each proposed collection of information.

Dated: October 4, 2007.
Vernon A. Williams,
Secretary.

[FR Doc. E7-19612 Filed 10-3-07; 8:45 am]

BILLING CODE 4915-01-P